DEPARTMENT OF COMMERCE

National Oceanic and Atmospheric Administration

[I.D. 052902E]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Shrimp Stock Assessment Panel (SSAP) from June 17-19, 2002.

DATES: The Council’s SSAP will convene at 1:30 p.m. (CST) on Monday, June 17, 2002 and conclude by 3 p.m. on Wednesday, June 19, 2002.

ADDRESSES: The meeting will be held at the New Orleans Airport Hilton Hotel, 109 Airline Highway, Kenner,LA; telephone: 504-469-5000.

Council address: Gulf of Mexico Fishery Management Council, 3018 U.S. Highway 301 North, Suite 1000, Tampa, FL 33619.

FOR FURTHER INFORMATION CONTACT: Mr. Rick Leard, Deputy Executive Director, Gulf of Mexico Fishery Management Council; telephone: 813-228-2815.

SUPPLEMENTARY INFORMATION: The Council will convene its SSAP to review an Options Paper for Amendment 13 to the Shrimp Fishery Management Plan (FMP) that contains alternatives for defining maximum sustainable yield (MSY), optimum yield (OY), overfishing and the overfished condition for shrimp stocks in the Gulf of Mexico. The SSAP may also consider these parameters for rock shrimp that are currently not part of the management unit of the Shrimp FMP; however, the Council will be considering adding this stock to the Shrimp FMP. Finally, the SSAP may consider a bycatch quota for the shrimp fishery and what impacts it may have on shrimp and bycatch stocks, particularly red snapper.

Although other non-emergency issues not on the agenda may come before the SSAP for discussion, in accordance with the Magnuson-Stevens Fishery Conservation and Management Act (Magnuson-Stevens Act), those issues may not be the subject of formal action during these meetings. Actions of the SSAP will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by June 10, 2002.

Dated: May 30, 2002.
Richard W. Surdi,
Acting Director, Office of Sustainable Fisheries, National Marine Fisheries Service.

[FR Doc. 02-13955 Filed 6-3-02; 8:45 am]

BILLING CODE 3510-22-S